DEPARTMENT OF STATE

[Public Notice: 11656]

30-Day Notice of Proposed Information Collection: Courier Drop-Off List for U.S. Passport Applications

ACTION: Notice of request for public comment and submission to OMB of proposed collection of information.

SUMMARY: The Department of State is seeking Office of Management and Budget (OMB) approval for the information collection described below. In accordance with the Paperwork Reduction Act of 1995, we are requesting comments on this collection from all interested individuals and organizations. The purpose of this notice is to allow 30 days for public comment preceding submission of the collection to OMB.

DATES: The Department will accept comments from the public up to March 21, 2022.

ADDRESSES: Written comments and recommendations for the proposed information collection should be sent within 30 days of publication of this notice to: www.reginfo.gov/public/do/PRAMain. Find this information collection by selecting “Currently under 30-day Review—Open for Public Comments” or by using the search function. You must include the DS form number (DS-4283), information collection title, and the OMB control number in any correspondence (if applicable). Direct requests for additional information regarding the collection listed in this notice, including requests for copies of the proposed collection instrument, and supporting documents to PPTFormsOfficer@state.gov. You must include the DS form number (DS-4283) and information collection title.

SUPPLEMENTARY INFORMATION: • Title of Information Collection: Courier Drop-Off List for U.S. Passport Applications.

• OMB Control Number: 1405-0222.

• Type of Request: Renewal of a Currently Approved Collection.

• Originating Office: Bureau of Consular Affairs, Passport Services (CA/PPT).

• Form Number: DS-4283.

• Respondents: Business or Other For-Profit Organizations.

• Estimated Number of Respondents: 210,000 respondents per year.

• Estimated Number of Responses: 210,000 responses per year.

• Average Time per Response: 10 minutes.

• Total Estimated Burden Time: 35,000 annual hours.

• Frequency: Daily.

• Obligation to Respond: Required to Obtain or Retain a Benefit.

We are soliciting public comments to permit the Department to:

• Evaluate whether the proposed information collection is necessary for the proper functions of the Department

• Evaluate the accuracy of our estimate of the time and cost burden for this proposed collection, including the validity of the methodology and assumptions used

• Enhance the quality, utility, and clarity of the information to be collected

• Minimize the reporting burden on those who are to respond, including the use of automated collection techniques or other forms of information technology

Please note that comments submitted in response to this Notice are public record. Before including any detailed personal information, you should be aware that your comments as submitted, including your personal information, will be available for public review.

Abstract of Proposed Collection

The information collected on the DS-4283 is used to facilitate the issuance of passports to U.S. citizens and nationals in the continental United States with imminent travel plans who hire private courier companies to deliver their applications and other material to one of fourteen domestic passport agencies located in the continental United States. The Department asks courier company employees to complete the DS-4283 for each service type and submit the form with passport applications and other material delivered in bulk to passport agencies in a designated drop-off box. Passport agencies use the form to track the submission of applications that a courier drops off. The form serves as a record of receipt of passport applications and other documents submitted to the Department and as an acknowledgment of who delivered them. The DS-4283 is part of a Department effort to facilitate the delivery of passport applications and other documents by private courier companies while maintaining the integrity of the passport application process.

Methodology

This form is used to track the processing of passport applications and other documents delivered in bulk to passport agencies by private courier companies. Courier employees are asked to attach the form onto sealed envelopes or packages containing passport applications and other documents which they deliver in bulk to designated drop-off facilities at one of fourteen passport agencies for processing. A PDF fillable form will be available to download from https://eforms.state.gov.

Kevin E. Bryant,
Deputy Director, Office of Directives Management, Department of State.

[FR Doc. 2022-03446 Filed 2-16-22; 8:45 am]

BILLING CODE 4710-06-P